NUCLEAR REGULATORY COMMISSION

Advisory Committee on Reactor Safeguards Meeting of the ACRS Subcommittee on EPR; Cancellation to May 11, 2011, ACRS Meeting—Federal Register Notice

The Federal Register Notice for the ACRS Subcommittee Meeting on the design certification application review of the U.S. Evolutionary Power Reactor scheduled to be held on May 11, 2011, is being canceled.

The notice of this meeting was previously published in the Federal Register on Wednesday, Monday, April 25, 2011 [75 FR 22935].

Further information regarding this meeting can be obtained by contacting Derek Widmayer, Designated Federal Official (Telephone: 301-415-7366, E-mail: Derek.Widmayer@nrc.gov) between 7:30 a.m. and 5:15 p.m. (ET).

Dated: May 3, 2011.
Yoira Diaz-Sanabria,
Acting Chief, Reactor Safety Branch B, Advisory Committee on Reactor Safeguards.

[FR Doc. 2011-11223 Filed 5-6-11; 8:45 am]

BILLING CODE 7590-01-P